DEPARTMENT OF THE INTERIOR

Bureau of Land Management

[LLAK930000 L16100000.DS0000.12XL]

Notice of Correction to Notice of Availability of the Draft Integrated Activity Plan/Environmental Impact Statement for the National Petroleum Reserve-Alaska and Announcement of Public Subsistence-Related Hearings

AGENCY: Bureau of Land Management, Interior.

ACTION: Notice of correction.

SUMMARY: On March 30, 2012, the Bureau of Land Management (BLM) published a Notice of Availability of the Draft Integrated Activity Plan (IAP)/Environmental Impact Statement (EIS) for the National Petroleum Reserve-Alaska and Announcement of Public Subsistence-Related Hearings in the Federal Register (77 FR 19318). The BLM inadvertently stated that the comments on the Draft IAP/EIS must be received by May 31, 2012. The BLM will accept public comments on the Draft IAP/EIS until June 1, 2012.

FOR FURTHER INFORMATION CONTACT: Jim Ducker, BLM Alaska State Office, 907-271-3130.

Ronald L. Dunton,
Acting State Director.

[FR Doc. 2012-8860 Filed 4-11-12; 8:45 am]

BILLING CODE 4310-JA-P